DEPARTMENT OF JUSTICE

Antitrust Division

Notice Pursuant to the National Cooperative Research and Production Act of 1993_Internet Streaming Media Alliance, Inc.

Notice is hereby given that, on March 8, 2001, pursuant to section 6(a) of the National Cooperative Research and Production Act of 1993, 15 U.S.C. 4301 et seq. (“the Act”), Internet Streaming Media Alliance, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Philips Digital Networks, Sunnyvale, CA; International Business Machines (“IBM”), Cambridge, MA; Tivoli Systems, Inc., Cambridge, MA; Cisco Systems, Inc., San Jose, CA; Apple, Cupertino, CA; Kasenna, Inc., Mountain View, CA; and Sun Microsystems, Inc., Palo Alto, CA.

The nature and objectives of the venture are to engage in activities consistent with and in furtherance of its Specific Purposes (“Specific Purposes”). The Specific Purposes for which the Alliance is formed are: (i) To promote the growth and development of streaming rich media (video, audio and associated data) over the Internet; (ii) to promote the growth and development of the industry related to Streaming Rich Media over the Internet; (iii) to define, establish, revise, and support specification(s) (“Specifications”) that contribute to the development of interoperable, efficient, end-to-end solutions that promote or facilitate Streaming Rich Media over the Internet as well as over private networks, and to foster the voluntary and rapid adoption of the Specifications by developers of related products and services; (iv) to provide a forum whereby interested parties may meet to approve Specifications and to suggest revisions and enhancements to Specifications; to make appropriate submissions to established agencies and bodies with the purpose of ratifying all or part of the Specifications as an international standard; and to provide a forum whereby users may meet with developers and providers of Streaming Rich Media products and services to identify requirements for interoperability and general usability; (v) to educate the business and consumer communities as to the value of products and services based on or related to the Specifications through public statements, publications, trade shows demonstrations, seminar sponsorships, and other programs established by the Alliance, and to thereby promote market demand for products based on or related to the Specifications; (vi) to protect the needs of consumers and increase competition among vendors by supporting the voluntary creation and implementation of uniform, industry-standard conformance or compliance test procedures and process which assure the interoperability of products and services based on or related to the Specifications; (vii) to maintain relationships and liaison with educational institutions, government research institutes, other technology consortia, and other organizations that support and contribute to the development of specifications and standards for Streaming Rich Media over the Internet; (viii) to foster competition in the development of new products and services based on or related to the Specifications, in conformance with all applicable antitrust laws and regulations; and (ix) to do anything reasonably necessary to achieve or promote these Specific Purposes.

In furtherance of the above stated Specific Purposes, the Alliance may, among other things, engage in theoretical analysis; experimentation; systematic study; research; development; testing; the extension of investigative findings or theory of a scientific or technical nature into practical application; the collection, exchange and analysis of research or production information; and any combination of the foregoing.

Constance K. Robinson,
Director of Operations, Antitrust Division.

[FR Doc. 01-9766 Filed 4-19-01; 8:45 am]

BILLING CODE 4410-11-M